DEPARTMENT OF DEFENSE

Uniformed Services University of the Health Sciences

Meeting Notice

AGENCY: Uniformed Services University of the Health Sciences, DoD.

Time and Date: 8 a.m. to 4 p.m., May 14, 2004.

Place: Uniformed Services University of the Health Sciences, Board of Regents Conference Room (D3001), 4301 Jones Bridge Road, Bethesda, MD 20814-4799.

Status: Open—under “Government in the Sunshine Act” (5 U.S.C. 552b(e)(3)).

Matters To Be Considered:

8 a.m. Meeting—Board of Regents

(1) Approval of Minutes—February 3, 2004

(2) Faculty Matters

(3) Departmental Reports

(4) Financial Report

(5) Report—President, USUHS

(6) Report—Dean, School of Medicine

(7) Report—Dean, Graduate School of Nursing

(8) Approval of Degrees—School of Medicine, Graduate School of Nursing

(9) Comments—Chairman, board of Regents

(10) New Business

FOR FURTHER INFORMATION CONTACT: Dr. Barry Wolcott, Executive Secretary, Board of Regents, (301) 295-3981.

Dated: March 29, 2004.
L.M. Bynum,
Alternate OSD Federal Register Liaison Officer, Department of Defense.

[FR Doc. 04-7396 Filed 3-29-04; 3:07 pm]

BILLING CODE 5001-06-M